DEPARTMENT OF ENERGY

Federal Energy Regulatory Commission

Combined Notice of Filings #1

Take notice that the Commission received the following electric corporate filings:

Docket Numbers: EC19-89-000.

Applicants: Northern States Power Company, a Minnesota corporation, Jeffers Wind 20, LLC, Community Wind North, LLC, North Wind Turbines LLC, North Community Turbines LLC, Community Wind North 2 LLC, Community Wind North 3 LLC, Community Wind North 5 LLC, Community Wind North 6 LLC, Community Wind North 7 LLC, Community Wind North 10 LLC, Community Wind North 11 LLC, Community Wind North 1 LLC, Community Wind North 9 LLC, Community Wind North 8 LLC, Community Wind North 13 LLC, Community Wind North 15 LLC.

Description: Joint Application for Authorization Under Section 203 of the Federal Power Act., et al. of Northern States Power Company, a Minnesota corporation, et al.

Filed Date: 5/13/19.

Accession Number: 20190513-5044.

Comments Due: 5 p.m. ET 6/3/19.

Docket Numbers: EC19-90-000.

Applicants: Public Service Company of New Mexico, Western Spirit Transmission LLC.

Description: Joint Application for Authorization Under Section 203 of the Federal Power Act., et al. of Public Service Company of New Mexico, et al.

Filed Date: 5/10/19.

Accession Number: 20190510-5163.

Comments Due: 5 p.m. ET 5/31/19.

Take notice that the Commission received the following electric rate filings:

Docket Numbers: ER10-2564-009; ER10-2289-009; ER10-2600-009.

Applicants: Tucson Electric Power Company, UNS Electric, Inc., UniSource Energy Development Company.

Description: Updated Workpapers of Dr. Jonathan Stahlhut for Triennial Market Power Analysis for the Southwest Region of Tucson Electric Power Company, et al.

Filed Date: 5/10/19.

Accession Number: 20190510-5175.

Comments Due: 5 p.m. ET 5/31/19.

Docket Numbers: ER19-356-002.

Applicants: Southwest Power Pool, Inc.

Description: Compliance filing: Compliance Filing—Require All VERs to Register and Convert to DVERs to be effective 1/16/2019.

Filed Date: 5/13/19.

Accession Number: 20190513-5096.

Comments Due: 5 p.m. ET 6/3/19.

Docket Numbers: ER19-373-003.

Applicants: Paulding Wind Farm II LLC.

Description: Compliance filing: Compliance filing in Docket ER19-373 to be effective 1/20/2019.

Filed Date: 5/10/19.

Accession Number: 20190510-5033.

Comments Due: 5 p.m. ET 5/31/19.

Docket Numbers: ER19-1152-001.

Applicants: PJM Interconnection, L.L.C.

Description: Compliance filing: Supplement to Docket No. ER19-1152 re: Effective Date to add Transource as a TO to be effective 5/10/2019.

Filed Date: 5/10/19.

Accession Number: 20190510-5129.

Comments Due: 5 p.m. ET 5/31/19.

Docket Numbers: ER19-1823-000.

Applicants: Midcontinent Independent System Operator, Inc.

Description: Compliance filing: 2019-05-10_Attachment X Compliance to RM17-8 Surplus Interconnection Service to be effective 5/20/2019.

Filed Date: 5/10/19.

Accession Number: 20190510-5131.

Comments Due: 5 p.m. ET 5/31/19.

Docket Numbers: ER19-1824-000.

Applicants: Public Service Company of New Mexico.

Description: § 205(d) Rate Filing: Pattern NMW TSA Nos. 513-516 to be effective 7/9/2019.

Filed Date: 5/10/19.

Accession Number: 20190510-5132.

Comments Due: 5 p.m. ET 5/31/19.

Docket Numbers: ER19-1825-000.

Applicants: RRI Energy Services, LLC.

Description: Tariff Cancellation: Notice of Cancellation to be effective 5/14/2019.

Filed Date: 5/13/19.

Accession Number: 20190513-5062.

Comments Due: 5 p.m. ET 6/3/19.

Docket Numbers: ER19-1826-000.

Applicants: Bolt Energy, LLC.

Description: Baseline eTariff Filing: MBR Tariff to be effective 6/12/2019.

Filed Date: 5/13/19.

Accession Number: 20190513-5085.

Comments Due: 5 p.m. ET 6/3/19.

Docket Numbers: ER19-1827-000.

Applicants: PJM Interconnection, L.L.C.

Description: § 205(d) Rate Filing: Original ISA, SA No. 5224; Queue No. AB2-060 to be effective 10/3/2018.

Filed Date: 5/13/19.

Accession Number: 20190513-5172.

Comments Due: 5 p.m. ET 6/3/19.

Take notice that the Commission received the following qualifying facility filings:

Docket Numbers: QF19-1161-000.

Applicants: Los Alamos National Laboratory.

Description: Form 556 of Los Alamos National Laboratory.

Filed Date: 5/13/19.

Accession Number: 20190513-5073.

Comments Due: Non-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 13, 2019.
Nathaniel J. Davis, Sr.,
Deputy Secretary.

[FR Doc. 2019-10237 Filed 5-16-19; 8:45 am]

BILLING CODE 6717-01-P